DEPARTMENT OF LABOR

Employment and Training Administration

[TA-W-56,985A and TA-W-56,985C]

Oneida Ltd., Sales Office, Oneida, NY, Including an Employee of Oneida Ltd., Sales Office, Oneida, NY, Located in Lawrenceville, GA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on May 27, 2005, applicable to workers of Oneida Ltd., Sales Office, Oneida, New York. The notice was published in the Federal Register on June 28, 2005 (70 FR 37117).

At the request of a petitioner, the Department reviewed the certification for workers of the subject firm.

New information shows that a worker was separated involving an employee of the Sales Office, Oneida, New York facility of Oneida Ltd. located in Lawrenceville, Georgia. Ms. Rebecca Carlson, Regional Service Manager, provided support services for the production of stainless steel, silver plated and sterling silver flatware at the Sherrill, New York facility of Oneida Ltd.

Accordingly, the Department is amending this certification to include an employee of the Sales Office, Oneida, New York facility of Oneida Ltd., located in Lawrenceville, Georgia.

The intent of the Department's certification is to include all workers employed at Oneida Ltd., Sales Office, Oneida, New York who were adversely affected by increased company imports.

The amended notice applicable to TA-W-56,985 is hereby issued as follows:

“All workers of Oneida Ltd., Main Plant, Sherrill, New York (TA-W-56,985), Oneida Ltd., Sales Office, Oneida, New York (TA-W-56,985A), including an employee of Oneida Ltd., Sales Office, Oneida, New York located in Lawrenceville, Georgia (TA-W-56,985C) who became totally or partially separated from employment on or after April 1, 2005, through May 27, 2007, are eligible to apply for adjustment assistance under Section 223 of the Trade Act of 1974.” And

“All workers of Oneida Ltd., Main Plant, Sherrill, New York (TA-W-56,985), Oneida Ltd., Sales Office, Oneida, New York (TA-W-56,985A), Oneida Ltd., Distribution Facility, Sherrill, New York (TA-W-56,985B) and including an employee of Oneida Ltd., Sales Office, Oneida, New York located in Lawrenceville, Georgia (TA-W-56,985C) who became totally or partially separated from employment on or after April 6, 2004, through May 27, 2007, are eligible to apply for alternative trade adjustment assistance under Section 246 of the Trade Act of 1974.”

Signed at Washington, DC, this 24th day of August 2006.
Elliott S. Kushner,
Certifying Officer, Division of Trade Adjustment Assistance.

[FR Doc. E6-15077 Filed 9-12-06; 8:45 am]

BILLING CODE 4510-30-P